DEPARTMENT OF COMMERCE

National Oceanic and Atmospheric Administration

Mid-Atlantic Fishery Management Council (MAFMC); Public Meetings

AGENCY: National Marine Fisheries Service (NMFS), National Oceanic and Atmospheric Administration (NOAA), Commerce.

ACTION: Notice of a public meeting.

SUMMARY: The Mid-Atlantic Fishery Management Council's (Council) Surfclam and Ocean Quahog Advisory Panel will hold a public meeting.

DATES: The meeting will be held on Monday, May 2, 2016, from 1:30 p.m. until 4 p.m.

ADDRESSES: The meeting will be held via Internet Webinar. Detailed connection details are available at http://www.mafmc.org. To join the Webinar, follow this link and enter the online meeting room: http://mafmc.adobeconnect.com/april2016scoq/.

Council address: Mid-Atlantic Fishery Management Council, 800 North State Street, Suite 201, Dover, DE 19901; telephone: (302) 674-2331.

FOR FURTHER INFORMATION CONTACT: Christopher M. Moore Ph.D., Executive Director, Mid-Atlantic Fishery Management Council, 800 N. State Street, Suite 201, Dover, DE 19901; telephone: (302) 526-5255.

SUPPLEMENTARY INFORMATION: The purpose of the meeting is to develop a fishery performance report by the Council's Surfclam and Ocean Quahog Advisory Panel. The intent of this report is to facilitate structured input from the Surfclam and Ocean Quahog Advisory Panel members to the Council and its Scientific and Statistical Committee (SSC) on setting catch and landings limits for 2017-18, changes that may be occurring in the fisheries, and other fishery-related issues.

Special Accommodations

The meeting is physically accessible to people with disabilities. Requests for sign language interpretation or other auxiliary aids should be directed to M. Jan Saunders at the Mid-Atlantic Council Office, (302) 526-5251, at least 5 days prior to the meeting date.

Dated: April 5, 2016.
Tracey L. Thompson,
Acting Deputy Director, Office of Sustainable Fisheries, National Marine Fisheries Service.

[FR Doc. 2016-08129 Filed 4-7-16; 8:45 am]

BILLING CODE 3510-22-P